FEDERAL COMMUNICATIONS COMMISSION

47 CFR Part 73

[DA 03-368, MM Docket No. 01-225, RM-10253]

Radio Broadcasting Services; Hartshorne, OK

AGENCY: Federal Communications Commission.

ACTION: Proposed rule, dismissal.

SUMMARY: This document dismisses a pending petition for rulemaking to add an FM allotment in Hartshorne, Oklahoma. The Commission had requested comment on a petition filed by Maurice Salsa, proposing the allotment of Channel 252A at Hartshorne, Oklahoma. See 66 FR 48108, September 18, 2001. The petitioner filed comments in support of the proposal. No other comments were received. On January 14, 2003, petitioner filed a request for dismissal of its pending petition. This document grants that request, dismissing the petition and terminating the proceeding.

ADDRESSES: Federal Communications Commission, Washington, DC 20554. The address of the petitioner is as follows: Maurice Salsa, 5615 Evergreen Valley Drive, Kingwood, Texas 75345.

FOR FURTHER INFORMATION CONTACT: Deborah A. Dupont, Media Bureau (202) 418-7072.

SUPPLEMENTARY INFORMATION: This is a synopsis of the Commission's Report and Order, MM Docket No. 01-225, adopted February 5, 2002, and released February 7, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

Federal Communications Commission.
John A. Karousos,
Assistant Chief, Audio Division, Media Bureau.

[FR Doc. 03-4368 Filed 2-24-03; 8:45 am]

BILLING CODE 6712-01-P